AGENCY FOR INTERNATIONAL DEVELOPMENT

Notice of Public Information Collection Requirements Submitted to OMB for Review

SUMMARY: U.S. Agency for International Development (USAID) has submitted the following information collection to OMB for review and clearance under the Paperwork Reduction Act of 1995, Public Law 104-13.

Comments regarding this information collection are best assured of having their full effect if received within 30 days of this notification. Comments should be sent via e-mail to Ross_A._Rutledge@omb.eop.gov or fax to 202-395-3086. Copies of submission may be obtained by calling (202) 712-1365.

SUPPLEMENTARY INFORMATION: OMB Number: OMB 0412-New.

Form Number: AID 321-2.

Title: Mentor Protégé Program—Annual Report.

Type of Submission: New Information Collection.

Purpose: The mentors are required to report on the progress made under each active Mentor-Protégé Agreement annually throughout the term of the agreement. Each report is due 30 days after the end of each twelve-month period commencing with the start of the agreement.

Annual Reporting Burden:

Respondents: 30.

Total annual responses: 30.

Total annual hours requested: 360 hours.

Dated: October 8, 2010.
Beth Salamanca,
Acting Director, Office of Management Services, Bureau for Management.

[FR Doc. 2010-26412 Filed 10-21-10; 8:45 am]

BILLING CODE M